DEPARTMENT OF COMMERCE

National Oceanic and Atmospheric Administration

[RTID 06489-XA531]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a 4-day webinar meeting to consider actions affecting the Gulf of Mexico fisheries in the exclusive economic zone (EEZ).

DATES: The webinar will convene Monday, October 26 through Thursday, October 29, 2020, from 9 a.m. until 4 p.m. EDT.

ADDRESSES: The meeting will take place via webinar; you may register for the meeting at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, October 26, 2020; 9 a.m.-4 p.m.

The meeting will begin in FULL COUNCIL open to the public to review and adopt the October 2020-August 2021 Council Committee Roster.

At approximately 9:15 a.m. the Data Collection Committee will review potential regulatory changes from Commercial Electronic Logbook Program Implementation; and, receive an update on Southeast For-hire Electronic Reporting (SEFHIER) Program. The Gulf SEDAR Committee will receive an update on Operational Assessment Process and Scientific and Statistical Committee (SSC) Recommendations; review Interim Analyses—Discussion on Timing and Use for Management; and, receive the Steering Committee report from the October 16, 2020 meeting. The Law Enforcement Committee will receive a meeting summary from the Law Enforcement Technical Committee meeting in March 2020.

The Sustainable Fisheries Committee will finalize recommendations on Executive Order 13921 from Public Comments and from the Council, receive a summary report from the Joint Section 102 Workgroup, and discuss Allocation Review Procedures. The Administrative/Budget Committee will review expenditures for No-Cost Extension Request (FY2014-2019) and 2020 Expenditures. The Committee will also review and discuss Scopes of Work (FY 2014-2019) Activities.

Tuesday, October 27, 2020; 9 a.m.-4 p.m.

The Reef Fish Committee will begin with reviewing Reef Fish Landings, Final Action: Framework Action to Adjust State Recreation Red Snapper Catch Limits, Public Hearing Draft Amendment 53: Red Grouper Catch Limits and Sector Allocations and Draft Framework Action: Modification of the Gulf of Mexico Lane Snapper Annual Catch Limit.

The Committee will also review Gray Triggerfish Interim Analysis, Public Hearing Draft Amendment 36B: Modifications to Commercial Individual Fishing Quota (IFQ) Programs, and any remaining Reef Fish Advisory Panel recommendations.

The Gulf of Mexico Fishery Management Council and National Marine Fisheries Service (NMFS) will hold an informal Question and Answer session immediately following the Reef Fish Committee.

Wednesday, October 28, 2020; 9 a.m.-4:15 p.m.

The Mackerel Committee will receive an update on Coastal Migratory Pelagics Landings, review SEDAR 38 Update: Gulf of Mexico King Mackerel Stock Assessment and receive a presentation on the Gulf of Mexico Migratory Group Cobia Draft Options.

Full Council will reconvene mid-morning (10:45 a.m.) with a Call to Order, Announcements, and Introductions; Adoption of Agenda and Approval of Minutes. The Council will receive presentations on 2019 Report to Congress on Illegal, Unreported, and Unregulated (IUU) Fishing and a presentation on Deepwater Horizon Open Ocean Fish Restoration. Following lunch, the Council will hold public comment testimony beginning at approximately 1 p.m. until 3:30 p.m. for Comments on Executive Order 13921, Final Action: Framework Action to Adjust State Recreational Red Snapper Catch Limits, and open testimony on other fishery issues or concerns. Public comment may begin earlier than 1 p.m. EDT but will not conclude before that time. Persons wishing to give public testimony must follow the instructions on the Council website before the start of the public comment period at 1 p.m. EDT.

Following public comment, the Council will receive the Data Collection committee report.

Thursday, October 29, 2020; 9 a.m.-4 p.m.

The Council will continue to receive committee reports from Administrative/Budget, Gulf SEDAR, Sustainable Fisheries, Mackerel, Shrimp, and Reef Fish Committees. The Council will receive updates from the following supporting agencies: Mississippi Law Enforcement Efforts; South Atlantic Fishery Management Council; NOAA Office of Law Enforcement (OLE); Gulf States Marine Fisheries Commission; U.S. Coast Guard; U.S. Fish and Wildlife Service; and Department of State.

The Council will discuss any Other Business items.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Authority: 16 U.S.C. 1801 et seq.

Dated: October 2, 2020.
Diane M. DeJames-Daly,
Acting Deputy Director, Office of Sustainable Fisheries, National Marine Fisheries Service.

[FR Doc. 2020-22154 Filed 10-6-20; 8:45 am]

BILLING CODE 3510-22-P